DEPARTMENT OF TRANSPORTATION

Federal Aviation Administration

14 CFR Part 39

[Docket No. FAA-2013-0794; Directorate Identifier 2012-NM-157-AD; Amendment 39-17936; AD 2014-16-12]

RIN 2120-AA64

Airworthiness Directives; Dassault Aviation Airplanes

AGENCY: Federal Aviation Administration (FAA), Department of Transportation (DOT).

ACTION: Final rule.

SUMMARY: We are adopting a new airworthiness directive (AD) for all Dassault Aviation Model FALCON 2000EX airplanes. This AD was prompted by a revision to the airplane airworthiness limitations to introduce a corrosion prevention control program, among other changes, to the maintenance requirements and airworthiness limitations. This AD requires revising the maintenance or inspection program to include the maintenance tasks and airworthiness limitations specified in the airworthiness limitations section of the airplane maintenance manual. We are issuing this AD to prevent reduced structural integrity of the airplane.

DATES: This AD becomes effective October 8, 2014.

The Director of the Federal Register approved the incorporation by reference of a certain publication listed in this AD as of October 8, 2014.

ADDRESSES: You may examine the AD docket on the Internet at http://www.regulations.gov/#!docketDetail;D=FAA-2013-0794; or in person at the Docket Management Facility, U.S. Department of Transportation, Docket Operations, M-30, West Building Ground Floor, Room W12-140, 1200 New Jersey Avenue SE., Washington, DC.

For service information identified in this AD, contact Dassault Falcon Jet, P.O. Box 2000, South Hackensack, NJ 07606; telephone 201-440-6700; Internet http://www.dassaultfalcon.com. You may view this referenced service information at the FAA, Transport Airplane Directorate, 1601 Lind Avenue SW., Renton, WA. For information on the availability of this material at the FAA, call 425-227-1221.

FOR FURTHER INFORMATION CONTACT: Tom Rodriguez, Aerospace Engineer, International Branch, ANM-116, Transport Airplane Directorate, FAA, 1601 Lind Avenue SW., Renton, WA 98057-3356; telephone 425-227-1137; fax 425-227-1149.

SUPPLEMENTARY INFORMATION:

Discussion

We issued a notice of proposed rulemaking (NPRM) to amend 14 CFR part 39 by adding an AD that would apply to all Dassault Aviation Model FALCON 2000EX airplanes. The NPRM published in the Federal Register on September 25, 2013 (78 FR 58973).

The European Aviation Safety Agency (EASA), which is the Technical Agent for the Member States of the European Community, has issued EASA Airworthiness Directive 2012-0157, dated August 23, 2012 (referred to after this as the Mandatory Continuing Airworthiness Information, or “the MCAI”), to correct an unsafe condition for the specified products. The MCAI states:

The airworthiness limitations and maintenance requirements for the Falcon 2000EX type design are included in Dassault Aviation Falcon 2000EX (F2000EX) Aircraft Maintenance Manual (AMM) chapter 5-40 and are approved by the European Aviation Safety Agency (EASA). EASA issued AD 2008-0221 [http://ad.easa.europa.eu/ad/2008-0221.pdf] to require accomplishment of the maintenance tasks, and implementation of the airworthiness limitations, as specified in Dassault Aviation F2000EX AMM chapter 5-40 at revision 3.

Since that [EASA] AD was issued, Dassault Aviation issued F2000EX AMM chapter 5-40 at revision 7, which introduces new or more restrictive maintenance requirements and/or airworthiness limitations.

Dassault Aviation AMM chapter 5-40 revision 7 contains among other changes the following requirements:

—Inspection and test of horizontal stabilizer jackscrew;

—Test of various components of the electrical power system;

—Revised Time Between Overhaul for screwjack of flap actuators -3 version;

—Revised interval for checking the screw/nut play on screwjack of flap actuators -3 version;

—Removal of service life limit for screwjack of flap actuators;

—Test of flap asymmetry protection system. F2000EX AMM chapter 5-40 at revision 7 introduces extended inspection interval;

—Tests of the auto brake system;

— Inspection procedures of fuselage and wings;

— Check of overpressure tightness on pressurization control regulating valves. Compliance with this check is required by EASA AD 2008-0072 [http://ad.easa.europa.eu/ad/2008-0072.pdf]. F2000EX AMM chapter 5-40 at revision 7 introduces extended inspection interval.

The maintenance tasks and airworthiness limitations, as specified in the F2000EX AMM chapter 5-40, have been identified as mandatory actions for continued airworthiness of the F2000EX type design. Failure to comply with AMM chapter 5-40 at revision 7 might constitute an unsafe condition.

For the reasons described above, this [EASA] AD requires the implementation of the maintenance tasks and airworthiness limitations, as specified in Dassault Aviation F2000EX AMM chapter 5-40 at revision 7.

You may examine the MCAI in the AD docket on the Internet at http://www.regulations.gov/#!documentDetail;D=FAA-2013-0794-0002.

Comments

We gave the public the opportunity to participate in developing this AD. The following presents the comments received on the proposal (78 FR 58973, September 25, 2013) and the FAA's response to each comment.

Request To Withdraw the NPRM (78 FR 58973, September 25, 2013)

An anonymous commenter stated that Dassault Aviation has taken appropriate steps to ensure that operators have sufficient knowledge and awareness of the corrosion prevention control program and that the maintenance manual includes the requirements of the proposed AD (78 FR 58973, September 25, 2013). The commenter declared that all operators are likely including the actions in the proposed AD into their maintenance programs, even though the actions are not mandated by an AD. The commenter also stated that “ . . . any structural inspection of moderate detail already highlights specific critical areas (like the stabilizer actuator) so yet another avenue to enforce inspections of this nature is ludicrous.” We infer that the commenter is requesting that the NPRM be withdrawn.

We do not agree to withdraw the NPRM (78 FR 58973, September 25, 2013). Although an airplane manufacturer's maintenance manual includes corrosion control inspections, with appropriate approval, operators are allowed to deviate from those procedures for their maintenance programs. This AD addresses the unsafe condition related to uncontrolled corrosion by requiring operators to include the manufacturer's maintenance procedures in the operators' maintenance program. No change has been made to this AD regarding this issue.

Request To Revise the NPRM (78 FR 58973, September 25, 2013) Based on New Service Information

Dassault requested the NPRM (78 FR 58973, September 25, 2013) be revised to refer to Chapter 5-40, Airworthiness Limitations, DGT 113877, Revision 9, dated February 2013, of the Dassault Falcon 2000EX Maintenance Manual.

We agree with the commenter's request and have updated paragraph (g) of this AD accordingly. We have also included a new paragraph (j) in this AD to give credit for the actions required by paragraph (g) of this AD, if those actions were done before the effective date of this AD using Chapter 5-40, Airworthiness Limitations, DGT 113877, Revision 8, dated July 2012, of the Dassault Falcon 2000EX Maintenance Manual. We have redesignated subsequent paragraphs accordingly.

Request To Remove the Terminating Action

Dassault commented that paragraph (h) of the proposed AD (78 FR 58973, September 25, 2013) was “not suited.” Paragraph (h) of the proposed AD stated that “Accomplishing paragraph (g) of this AD terminates the requirements of paragraph (g) of AD 2010-26-05, Amendment 39-16544 (75 FR 79952, December 21, 2010), for Dassault Aviation Model FALCON 2000EX Airplanes.” Paragraph (g) of the proposed AD proposed to require revising the maintenance or inspection program by incorporating the information specified in Chapter 5-40, Airworthiness Limitations, DGT 113877, Revision 8, dated July 2012, of the Dassault Falcon 2000EX Maintenance Manual. The commenter stated that the repetitive inspection interval of 1,640 flight hours was the same in the service information referenced in the NPRM and in FAA AD 2010-26-05. We infer that the commenter is requesting that paragraph (h) of the proposed AD be removed because it is unnecessary.

We do not agree that paragraph (h) of the proposed AD (78 FR 58973, September 25, 2013) should be omitted from this AD. We are providing relief for operators of Dassault Aviation Model FALCON 2000EX airplanes by allowing them to terminate the actions required by paragraph (g) of AD 2010-26-05, Amendment 39-16544 (75 FR 79952, December 21, 2010), and instead doing the actions required by paragraph (g) of this AD. If we did not include paragraph (h) in this AD, operators of Dassault Aviation Model FALCON 2000EX airplanes would have to show compliance with both paragraph (g) of AD 2010-26-05 and paragraph (g) of this AD. Paragraph (h) of this AD removes that redundancy. No change has been made to this AD in this regard.

“Contacting the Manufacturer” Paragraph in This AD

Since late 2006, we have included a standard paragraph titled “Airworthy Product” in all MCAI ADs in which the FAA develops an AD based on a foreign authority's AD.

We have become aware that some operators have misunderstood or misinterpreted the Airworthy Product paragraph to allow the owner/operator to use messages provided by the manufacturer as approval of deviations during the accomplishment of an AD-mandated action. The Airworthy Product paragraph does not approve messages or other information provided by the manufacturer for deviations to the requirements of the AD-mandated actions. The Airworthy Product paragraph only addresses the requirement to contact the manufacturer for corrective actions for the identified unsafe condition and does not cover deviations from other AD requirements. However, deviations to AD-required actions are addressed in 14 CFR 39.17, and anyone may request the approval for an alternative method of compliance to the AD-required actions using the procedures found in 14 CFR 39.19.

To address this misunderstanding and misinterpretation of the Airworthy Product paragraph, we have changed the paragraph and retitled it “Contacting the Manufacturer.” This paragraph now clarifies that for any requirement in this AD to obtain corrective actions from a manufacturer, the action must be accomplished using a method approved by the FAA, EASA, or Dassault Aviation's EASA DOA.

The Contacting the Manufacturer paragraph also clarifies that, if approved by the DOA, the approval must include the DOA-authorized signature. The DOA signature indicates that the data and information contained in the document are EASA-approved, which is also FAA-approved. Messages and other information provided by the manufacturer that do not contain the DOA-authorized signature approval are not EASA-approved, unless EASA directly approves the manufacturer's message or other information.

This clarification does not remove flexibility previously afforded by the Airworthy Product paragraph. Consistent with long-standing FAA policy, such flexibility was never intended for required actions. This is also consistent with the recommendation of the Airworthiness Directive Implementation Aviation Rulemaking Committee to increase flexibility in complying with ADs by identifying those actions in manufacturers' service instructions that are “Required for Compliance” with ADs. We continue to work with manufacturers to implement this recommendation. But once we determine that an action is required, any deviation from the requirement must be approved as an alternative method of compliance.

We also have decided not to include a generic reference to either the “delegated agent” or “design approval holder (DAH) with State of Design Authority design organization approval,” but instead we have provided the specific delegation approval granted by the State of Design Authority for the DAH throughout this AD.

Conclusion

We reviewed the relevant data, considered the comments received, and determined that air safety and the public interest require adopting this AD with the changes described previously and minor editorial changes. We have determined that these minor changes:

• Are consistent with the intent that was proposed in the NPRM (78 FR 58973, September 25, 2013) for correcting the unsafe condition; and

• Do not add any additional burden upon the public than was already proposed in the NPRM (78 FR 58973, September 25, 2013).

Costs of Compliance

We estimate that this AD affects 18 airplanes of U.S. registry.

We estimate the following costs to comply with this AD:

Estimated costs
Action | Labor cost | Parts cost | Cost per product | Cost on U.S. operators
Maintenance/inspection program revision | 1 work-hour × $85 per hour = $85 | N/A | $85 | $1,530

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this AD will not have federalism implications under Executive Order 13132. This AD will not have a substantial direct effect on the States, on the relationship between the national government and the States, or on the distribution of power and responsibilities among the various levels of government.

For the reasons discussed above, I certify that this AD:

1. Is not a “significant regulatory action” under Executive Order 12866;

2. Is not a “significant rule” under the DOT Regulatory Policies and Procedures (44 FR 11034, February 26, 1979);

3. Will not affect intrastate aviation in Alaska; and

4. Will not have a significant economic impact, positive or negative, on a substantial number of small entities under the criteria of the Regulatory Flexibility Act.

Examining the AD Docket

You may examine the AD docket on the Internet at http://www.regulations.gov/#!docketDetail;D=FAA-2013-0794; or in person at the Docket Management Facility between 9 a.m. and 5 p.m., Monday through Friday, except Federal holidays. The AD docket contains this AD, the regulatory evaluation, any comments received, and other information. The street address for the Docket Operations office (telephone 800-647-5527) is in the ADDRESSES section.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new AD:

2014-16-12 Dassault Aviation: Amendment 39-17936. Docket No. FAA-2013-0794; Directorate Identifier 2012-NM-157-AD.

(a) Effective Date

This airworthiness directive (AD) becomes effective October 8, 2014.

(b) Affected ADs

Certain requirements of this AD terminate the requirements of AD 2010-26-05, Amendment 39-16544 (75 FR 79952, December 21, 2010), for the airplanes identified in paragraph (c) of this AD.

(c) Applicability

This AD applies to Dassault Aviation Model FALCON 2000EX airplanes, certificated in any category, all serial numbers.

(d) Subject

Air Transport Association (ATA) of America Code 05, Time Limits/Maintenance Checks.

(e) Reason

This AD was prompted by a revision to the airplane airworthiness limitations to introduce the corrosion prevention control program, among other changes, to the maintenance requirements and airworthiness limitations. We are issuing this AD to prevent reduced structural integrity of the airplane.

(f) Compliance

Comply with this AD within the compliance times specified, unless already done.

(g) Revision of Maintenance or Inspection Program

Within 30 days after the effective date of this AD, revise the maintenance or inspection program, as applicable, to incorporate the information specified in Chapter 5-40, Airworthiness Limitations, DGT 113877, Revision 9, dated February 2013, of the Dassault Falcon 2000EX Maintenance Manual. The initial compliance time for accomplishing the actions specified in Chapter 5-40, Airworthiness Limitations, DGT 113877, Revision 9, dated February 2013, of the Dassault Falcon 2000EX Maintenance Manual, is within the times specified in that maintenance manual, or 30 days after the effective date of this AD, whichever occurs later, except as provided by paragraphs (g)(1) through (g)(4) of this AD.

(1) The term “landings” in the “First Inspection” column of any table in the service information means total airplane landings.

(2) The term “flight hours” in the “First Inspection” column of any table in the service information means total flight hours.

(3) The term “flight cycles” in the “First Inspection” column of any table in the service information means total flight cycles.

(4) For task number 52-20-00-610-801-01 52-205 the initial compliance time is within 24 months after the effective date of this AD.

(h) Terminating Action for the Affected AD

Accomplishing the actions specified in paragraph (g) of this AD terminates the requirements of paragraph (g) of AD 2010-26-05, Amendment 39-16544 (75 FR 79952, December 21, 2010), for Dassault Aviation Model FALCON 2000EX airplanes.

(i) No Alternative Actions and Intervals

After accomplishment of the revision required by paragraph (g) of this AD, no alternative actions (e.g., inspections) or intervals may be used unless the actions or intervals are approved as an alternative method of compliance (AMOC) in accordance with the procedures specified in paragraph (k) of this AD.

(j) Credit for Previous Actions

This paragraph provides credit for the actions specified in paragraph (g) of this AD, if those actions were performed before the effective date of this AD using Chapter 5-40, Airworthiness Limitations, DGT 113877, Revision 8, dated July 2012, of the Dassault Falcon 2000EX Maintenance Manual.

(k) Other FAA AD Provisions

The following provisions also apply to this AD:

(1) Alternative Methods of Compliance (AMOCs): The Manager, International Branch, ANM-116, Transport Airplane Directorate, FAA, has the authority to approve AMOCs for this AD, if requested using the procedures found in 14 CFR 39.19. In accordance with 14 CFR 39.19, send your request to your principal inspector or local Flight Standards District Office, as appropriate. If sending information directly to the International Branch, send it to ATTN: Tom Rodriguez, Aerospace Engineer, International Branch, ANM-116, Transport Airplane Directorate, FAA, 1601 Lind Avenue SW., Renton, WA 98057-3356; telephone 425-227-1137; fax 425-227-1149. Information may be emailed to: 9-ANM-116-AMOC-REQUESTS@faa.gov. Before using any approved AMOC, notify your appropriate principal inspector, or lacking a principal inspector, the manager of the local flight standards district office/certificate holding district office. The AMOC approval letter must specifically reference this AD.

(2) Contacting the Manufacturer: For any requirement in this AD to obtain corrective actions from a manufacturer, the action must be accomplished using a method approved by the Manager, International Branch, ANM-116, Transport Airplane Directorate, FAA; or the European Aviation Safety Agency (EASA); or Dassault Aviation's EASA Design Organization Approval (DOA). If approved by the DOA, the approval must include the DOA-authorized signature.

(l) Related Information

Refer to Mandatory Continuing Airworthiness Information (MCAI) European Aviation Safety Agency Airworthiness Directive 2012-0157, dated August 23, 2012, for related information. This MCAI may be found in the AD docket on the Internet at http://www.regulations.gov/#!documentDetail;D=FAA-2013-0794-0002.

(m) Material Incorporated by Reference

(1) The Director of the Federal Register approved the incorporation by reference (IBR) of the service information listed in this paragraph under 5 U.S.C. 552(a) and 1 CFR part 51.

(2) You must use this service information as applicable to do the actions required by this AD, unless this AD specifies otherwise.

(i) Chapter 5-40, Airworthiness Limitations, DGT 113877, Revision 9, dated February 2013, of the Dassault Falcon 2000EX Maintenance Manual.

(ii) Reserved.

(3) For service information identified in this AD, contact Dassault Falcon Jet, P.O. Box 2000, South Hackensack, NJ 07606; telephone 201-440-6700; Internet http://www.dassaultfalcon.com.

(4) You may view this service information at the FAA, Transport Airplane Directorate, 1601 Lind Avenue SW., Renton, WA. For information on the availability of this material at the FAA, call 425-227-1221.

(5) You may view this service information that is incorporated by reference at the National Archives and Records Administration (NARA). For information on the availability of this material at NARA, call 202-741-6030, or go to: http://www.archives.gov/federal-register/cfr/ibr-locations.html.

Issued in Renton, Washington, on August 1, 2014.
Jeffrey E. Duven,
Manager, Transport Airplane Directorate, Aircraft Certification Service.

[FR Doc. 2014-19020 Filed 9-2-14; 8:45 am]

BILLING CODE 4910-13-P